DEPARTMENT OF THE INTERIOR

Bureau of Land Management

[CA-320-1820-XQ]

Resource Advisory Council meeting

AGENCY: Bureau of Land Management, Northwest California Resource Advisory Council, Fortuna, California.

ACTION: Notice of meeting.

SUMMARY: Pursuant to the authorities in the Federal Advisory Committees Act (Pub. L. 92-463) and the Federal Land Policy and Management Act (Pub. L. 94-579), the U. S. Bureau of Land Management's Northwest California Resource Advisory Council will meet Wednesday and Thursday, April 18 and 19, 2001, in Fortuna, California, for a field tour and business meeting. The meeting and tour are open to the public, but anyone attending must provide their own transportation and lunch.

SUPPLEMENTARY INFORMATION: On Wednesday, April 18, the council members will convene at 10 a.m. at the Best Western Country Inn, 2025 River Walk Drive, Fortuna, and depart immediately for a tour of lands included in the proposed Lost Coast Headlands Project. On Wednesday, the council will convene at 8 a.m. in the Coho Room of the River Lodge Conference Center, 1800 River Walk Drive, Fortuna. Agenda items include a discussion of the land use planning status for the BLM's Arcata, Redding and Ukiah field offices, and program status reports from the field offices. Time will be set aside for public comments. Depending on the number of persons wishing to speak, a time limit may be established.

FOR FURTHER INFORMATION CONTACT: Contact Lynda J. Roush, BLM Arcata Field Manager, at (707) 825-2300.

Joseph J. Fontana,
Public Affairs Officer.

[FR Doc. 01-7601 Filed 3-27-01; 8:45 am]

BILLING CODE 4310-40-P